DEPARTMENT OF ENERGY

Federal Energy Regulatory Commission

[Docket No. RM12-18-000]

Revisions to Page 700 of FERC Form No. 6; Notice of Revisions to Form No. 6 Filing Software

The Commission released an update to the electronic filing software for the FERC Form No. 6 on March 14, 2014. The update incorporates the changes to page 700 approved in Order No. 783.¹ Pipelines must use the updated version of the Form No. 6 software when filing their annual report for reporting year 2013 and beyond. The annual Form No. 6 filings for 2013 are due on April 18, 2014.

¹ Revisions to Page 700 of FERC Form No. 6, 77 FR 59,343 (Sept. 9, 2012), FERC Stats. & Regs. ¶ 32,692 (2012), Final Rule, Order No. 783, 144 FERC ¶ 61,049 (2013).

Dated: March 21, 2014.
Nathaniel J. Davis, Sr.,
Deputy Secretary.

[FR Doc. 2014-06883 Filed 3-27-14; 8:45 am]

BILLING CODE 6717-01-P